DEPARTMENT OF THE TREASURY

Submission for OMB Review; Comment Request

January 13, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 20, 2009 to be assured of consideration.

Internal Revenue Service (IRS)

OMB Number: 1545-1962.

Type of Review: Extension.

Form: 8899.

Title: Notice of Income Donated Intellectual Property.

Description: Form is filed by charitable org. receiving donations of intellectual property if the donor provides a timely notice. The initial deduction is limited to the donor's basis; additional deductions are allowed to the extent of income from the property, reducing excessive deductions.

Respondents: Businesses or other for-profits.

Estimated Total Burden Hours: 5,430 hours.

OMB Number: 1545-1231.

Type of Review: Revision.

Title: Final (T.D. 9436) Tax Return Prep/IA-38-90 Final Regulations (T.D. 8382) Penalty on Income Tax Return Preparers Who Understate Taxpayer's Liability on a Federal Income Tax Return or a Claim for Refund.

Description: This information is necessary to make the record of the name, taxpayer identification number, and principal place of work of each tax return preparer, make each return or claim for refund prepared available for inspection by the Commissioner of Internal Revenue, and to document that the tax return preparer advised the taxpayer of the penalty standards applicable to the taxpayer in order for the tax return preparer to avoid penalties under section 6694. The likely respondents are tax return preparers and their employers. These regulations implement amendments to the tax return preparer penalties under sections 6694 and 6695 of the Internal Revenue Code and related provisions under sections 6060, 6107, 6109, 6696, and 7701(a)(36) reflecting amendments to the Code made by section 8246 of the Small Business and Work Opportunity Tax Act of 2007 and section 506 of the Tax Extenders and Alternative Minimum Tax Relief Act of 2008. The final regulation affects tax return preparers and provides guidance regarding the amended provisions.

Respondents: Businesses or other for-profits.

Estimated Total Burden Hours: 10,679,320 hours.

OMB Number: 1545-0913.

Type of Review: Extension.

Title: Below-Market Loans LR-165-84 (NPRM).

Description: Section 7872 re-characterizes a below-market loan as a market rate loan and an additional transfer by the lender to the borrower equal to the amount of imputed interest. The regulation requires both the lender and the borrower to attach a statement to their respective income tax returns for years in which they have either imputed income or claim imputed deductions under section 7872.

Respondents: Businesses or other for-profits.

Estimated Total Burden Hours: 481,722 hours.

OMB Number: 1545-1955.

Type of Review: Extension.

Form: 8894.

Title: Request to Revoke Partnership Level Tax Treatment Election.

Description: IRC section 6231(a)(1)(B)(ii) allows small partnerships to elect to be treated under the unified audit and litigation procedures. This election can only be revoked with the consent of the IRS. Form 8894 will provide a standardized format for small partnerships to request this revocation and for the IRS to process it.

Respondents: Businesses or other for-profits.

Estimated Total Burden Hours: 186 hours.

OMB Number: 1545-1353.

Type of Review: Extension.

Title: FI-189-84 (TD 8517—Final) Debt Instruments With Original Discount; Imputed Interest on Deferred Payment Sales or Exchanges of Property.

Description: These regulations provide definitions, reporting requirements, elections, and general rules relating to the tax treatment of debt instruments with original issue discount and the imputation of, and accounting for, interest on certain sales or exchanges of property.

Respondents: Businesses or other for-profits.

Estimated Total Burden Hours: 185,500 hours.

OMB Number: 1545-1041.

Type of Review: Extension.

Title: PS-102-86 (TD 8316—Final) Cooperative Housing Corporations.

Description: This regulation provides an elective alternative to the proportionate share rule for allocating interest and taxes to the tenant stockholders of cooperative housing corporations.

Respondents: Businesses or other for-profits.

Estimated Total Burden Hours: 625 hours.

OMB Number: 1545-1466.

Type of Review: Extension.

Title: Third-Party Disclosure Requirements in IRS Regulations.

Description: This submission contains third-party disclosure regulations subject to the Paperwork Reduction Act of 1995.

Respondents: Businesses or other for-profits.

Estimated Total Burden Hours: 68,885,183 hours.

Clearance Officer: Glenn P. Kirkland, (202) 622-3428, Internal Revenue Service, Room 6516, 1111 Constitution Avenue, NW., Washington, DC 20224.

OMB Reviewer: Nicholas A. Fraser, (202) 395-5887, Office of Management and Budget, Room 10235, New Executive Office Building, Washington, DC 20503.

Celina Elphage,
Treasury PRA Clearance Officer.

[FR Doc. E9-1070 Filed 1-16-09; 8:45 am]

BILLING CODE 4830-01-P